DEPARTMENT OF HOMELAND SECURITY

Coast Guard

33 CFR Part 100

[Docket No. USCG-2011-0629]

RIN 1625-AA08

Special Local Regulations for Marine Events; Temporary Change of Dates for Recurring Marine Events in the Fifth Coast Guard District, Wrightsville Channel; Wrightsville Beach, NC; Correction

ACTION: Correcting amendment.

SUMMARY: In the Federal Register published on September 8, 2011, the Coast Guard published a Temporary Final Rule changing the date of the special local regulation for this year's Wilmington YMCA Triathlon. In that Temporary Final Rule, the line number for the temporary line in the Table to § 100.501 was wrong. This Correction fixes that error. The date and all other details in the Final Rule were correct.

DATES: This correction is effective September 16, 2011.

FOR FURTHER INFORMATION CONTACT: For information about this correction, contact Kevin d'Eustachio, Office of Regulations and Administrative Law, telephone (202) 372-3854, e-mail kevin.m.deustachio@uscg.mil. For information about the original regulation, contact BOSN3 Joseph M. Edge, Coast Guard Sector North Carolina, telephone (252) 247-4525 Joseph.M.Edge@uscg.mil.

SUPPLEMENTARY INFORMATION: In FR Doc. 2011-22919 appearing on page 55561 in the Federal Register of Thursday, September 8, 2011, the following correction is made:

§ 100.501 Special Local Regulations; Marine Events in the Fifth Coast Guard District.

1. On page 55563, in the third column, in the third amendatory instruction, remove the words “line No. 63” and replace with “line No. 59”.

Dated: September 12, 2011.
Erin Ledford,
Acting Chief, Office of Regulations and Administrative Law (CG-0943), U.S. Coast Guard.

[FR Doc. 2011-23743 Filed 9-15-11; 8:45 am]

BILLING CODE 9110-04-P